FEDERAL MARITIME COMMISSION

Ocean Transportation Intermediary License Applicant

Notice is hereby given that the following applicant has filed with the Federal Maritime Commission an application for license as Ocean Freight Forwarder—Ocean Transportation Intermediary pursuant to section 19 of the Shipping Act of 1984 as amended (46 U.S.C. app. 1718 and 46 CFR 515).

Persons knowing of any reason why the following applicant should not receive a license are requested to contact the Office of Transportation Intermediaries, Federal Maritime Commission, Washington, DC 20573.

Ocean Freight Forwarder—Ocean Transportation Intermediary Applicant: MTS Logistics, Inc., 390 Fifth Avenue, Suite 701, New York, NY 10018, Officers: Sedat Saka, President (Qualifying Individual), Timur Fidan, Secretary.

Dated: November 16, 2000.
Bryant L. VanBrakle,
Secretary.

[FR Doc. 00-29820 Filed 11-21-00; 8:45 am]

BILLING CODE 6730-01-P